DEPARTMENT OF HEALTH AND HUMAN SERVICES

Health Resources and Services Administration

Enhancement and Update of the National HIV Curriculum e-Learning Platform

AGENCY: Health Resources and Services Administration (HRSA), Department of Health and Human Services.

ACTION: Notice of a single source award.

SUMMARY: HRSA's HIV/AIDS Bureau (HAB) intends to issue a single source award to the University of Washington for $300,000 for activities authorized under Section 2692(a) of the Public Health Service (PHS) Act as amended by the Ryan White HIV/AIDS Treatment Extension Act of 2009. This notice is subject to the appropriation of funds and is a contingency action taken to ensure that, should funds become available for this purpose, HRSA can award funds in a timely manner.

Subject to the availability of funds and the University of Washington's satisfactory performance, HAB will also issue non-competitive, single source awards of $300,000 each in fiscal years (FYs) 2019 to 2022. This will allow the University of Washington to update and enhance the National HIV Curriculum (NHC) and the electronic platform that supports it, and to keep pace with the latest HIV science, federal guidelines, and treatment protocols and practices for educating health professionals on the optimal care and treatment of people living with HIV over its four-year project period.

FOR FURTHER INFORMATION CONTACT: Sherrillyn Crooks, Chief, HIV Education Branch, Office of Training and Capacity Development, HAB/HRSA, 5600 Fishers Lane, Room 9N110, Rockville, MD 20857, by email at scrooks@hrsa.gov or by phone at (301) 443-7662.

SUPPLEMENTARY INFORMATION: Intended Recipient of the Award: The University of Washington.

Period of Supplemental Funding: September 1, 2018-August 31, 2022.

Funding Amount: Subject to the availability of appropriated funds, $300,000 each in FY 2018 to FY 2022.

Authority: Section 2692(a) of the Public Health Service (PHS) Act (42 U.S.C. 300ff-111(a)) and section 2693 of the PHS Act, as amended by the Ryan White HIV/AIDS Treatment Extension Act of 2009 (Pub. L. 111-87).

CFDA Number: 93.145.

Justification: The Enhancement and Update of the National HIV Curriculum e-Learning Platform project responds to the need to update and enhance the NHC and the electronic platform that supports it, and to keep pace with the latest HIV science, federal guidelines, treatment protocols, and practices for educating health professionals on the optimal care and treatment of people living with HIV (PLWH). With the ultimate goal of addressing the shortage of health professionals who care for people living with or who are at risk for HIV (PLWH), the University of Washington convened a multidisciplinary panel of clinical and learning technology experts under the auspices of the AIDS Education and Training Centers Program network, to create the national HIV curriculum. Released in July 2017, this free, online curriculum targets multidisciplinary novice-to-expert health professionals, students, and faculty who treat or aspire to treat PLWH. As the developer and proprietor of the NHC, the University of Washington is the only entity suitable for receiving a single source award to accomplish the critical task of ensuring that the NHC remains a relevant and important tool to educate HIV care providers in the United States.

Throughout the period of performance, the University of Washington will work in close coordination with recipients of awards under Notice of Funding Opportunity HRSA-18-045, Integrating the National HIV Curriculum e-Learning Platform into Health Care Provider Professional Education. Recipients under HRSA-18-045 will be collaborating with multiple health professions' academic and training institutions to incorporate the NHC into their curricula, including activities to train and orient faculty on effective methods to integrate the NHC. Though the University of Washington will gather feedback on the NHC from a wide variety of users, a collaboration with recipients under HRSA-18-045 will facilitate consistent collection, in real time, of integration practices that are proving most effective, and discussion of recommendations for disseminating those practices. This collaboration will influence and inform enhancements to the NHC e-Learning platform and further HRSA's goal to ensure that health professions academic and training institutions routinely use this state-of-the-art curriculum thus increasing the number of competent HIV treatment providers.

Dated: May 17, 2018.
George Sigounas,
Administrator.

[FR Doc. 2018-11033 Filed 5-22-18; 8:45 am]

BILLING CODE 4165-15-P